DEPARTMENT OF JUSTICE

Office of Justice Programs

Agency Information Collection Activities: Proposed Collection; Comment Request

ACTION: 60-Day notice of information collection under review; Extension of currently approved collection; Local law enforcement block grants program.

The Department of Justice, Office of Justice Programs, Bureau of Justice Assistance, has submitted the following information collection request for review and clearance in accordance with the Paperwork Reduction Act of 1995. This proposed information collection is published to obtain comments from the public and affected agencies. Comments are encouraged and will be accepted for “sixty days” until August 4, 2003.

If you have additional comments, suggestions, or need a copy of the proposed information instrument with instructions or additional information, please contact Zephyr Fraser at 202-616-0416, Bureau of Justice Assistance, Office of Justice Programs, U.S. Department of Justice, 810 7th Street, NW., Washington, DC 20531.

Written comments and suggestions from the public and affected agencies concerning the proposed collection of information are encouraged and should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: Extension of currently approved collection.

(2) The title of the form/collection: Local Law Enforcement Block Grants Program.

(3) The agency form number, if any, and the applicable component of the Department sponsoring the collection: Bureau of Justice Assistance, Office of Justice Programs, United States Department of Justice.

(4) Affected public who will be asked or required to respond, as well as a brief abstract: Primary: State, Local, and Tribal Governments. Other: None. Public Law 107-10 funds the Local Law Enforcement Block Grants Program. This program awards funds to local units of governments, states, and territories to reduce crime and improve public safety. Each eligible State and unit of local government electronically provides information to apply.

(5) An estimate of the total number of respondents and the amount of time estimated for an average respondent to respond/reply: It is estimated that no more than 3,274 respondents will apply, at approximately 10 responses each at 1 hour per response.

(6) As estimate of the total public burden (in hours) associated with the collection: The total hour burden to complete the applications is 32,740 annual burden hours.

If additional information is required contact: Mrs. Brenda E. Dyer, Deputy Clearance Officer, United States Department of Justice, Information Management and Security Staff, Justice Management Division, Suite 1600, 601 D Street, NW., Washington, DC 20530, or via facsimile at (202) 514-1590.

Dated: May 30, 2003.
Brenda E. Dyer,
Deputy Clearance Officer, United States Department of Justice.

[FR Doc. 03-14118 Filed 6-4-03; 8:45 am]

BILLING CODE 4410-18-M